DEPARTMENT OF EDUCATION

Applications for New Awards; Educational Technology, Media, and Materials for Individuals With Disabilities Program—Stepping-Up Technology Implementation

AGENCY: Office of Special Education and Rehabilitative Services, Department of Education.

ACTION: Notice.

SUMMARY: The Department of Education (Department) is issuing a notice inviting applications for new awards for fiscal year (FY) 2025 for Stepping-up Technology Implementation.

DATES:

Applications Available: June 25, 2025.

Application Deadline: July 25, 2025.

Deadline for Intergovernmental Review: August 25, 2025.

Pre-Application Webinar Information: The Office of Special Education Programs and Rehabilitative Services will record a pre-application webinar for this competition, available at www.ed.gov/about/ed-offices/osers/osep/new-osep-grant-competitions, within five days after publication of this notice. In addition, applicants may view information on this competition at www.ed.gov/about/ed-offices/osers/osep/new-osep-grant-competitions.

ADDRESSES: For the addresses for obtaining and submitting an application, please refer to the Application Submission Instructions section.

FOR FURTHER INFORMATION CONTACT: Anita Vermeer, U.S. Department of Education, 400 Maryland Avenue SW, Room 4A208, Washington, DC 20202. Telephone: (202) 987-0155. Email: anita.vermeer@ed.gov.

If you are deaf, hard of hearing, or have a speech disability and wish to access telecommunications relay services, please dial 7-1-1.

SUPPLEMENTARY INFORMATION:

Full Text of Announcement

Funding Opportunity Description

Purpose of Program:

The purpose of the Educational Technology, Media, and Materials for Individuals with Disabilities Program (ETechM2 Program) is to improve results for children with disabilities by (1) promoting the development, demonstration, and use of technology; (2) supporting educational activities designed to be of educational value in the classroom for children with disabilities; (3) providing support for captioning and video description that is appropriate for use in the classroom; and (4) providing accessible educational materials to children with disabilities in a timely manner.

Assistance Listing Number (ALN): 84.327S.

OMB Control Number: 1820-0028.

Eligible Applicants:

State educational agencies (SEAs); local educational agencies (LEAs), including public charter schools that operate as LEAs under State law; institutions of higher education (IHEs); other public agencies; private nonprofit organizations; freely associated States and outlying areas; Indian Tribes or Tribal organizations; and for-profit organizations.

Type of Award: Cooperative Agreements.

Estimated Available Funds: $2,000,000.

Contingent upon the availability of funds and the quality of applications, we may make additional awards in FY 2026 from the list of unfunded applications from this competition.

Estimated Range of Awards: $375,000 to $400,000 per year.

Estimated Average Size of Awards: $385,000 per year.

Maximum Award: We will not make an award exceeding $400,000 for a single budget period of 12 months.

Estimated Number of Awards: 5.

Note: The Department is not bound by any estimates in this notice.

Project Period: Up to 60 months.

Priority: This competition includes one absolute priority. In accordance with 34 CFR 75.105(b)(2)(v), the absolute priority is from allowable activities specified in sections 674(b)(2) and 681(d) of the Individuals with Disabilities Education Act (IDEA); 20 U.S.C. 1474(b)(2) and 1481(d).

Absolute Priority: For FY 2025 this priority is an absolute priority. The absolute priority is from the allowable activities in, or otherwise authorized under, the statute.¹ We consider only applications that meet this priority.

¹ See sections 20 U.S.C. 1474(b)(2) and 1481(d) of the Individuals with Disabilities Education Act.

This priority is:

Use of Evidence-based Technology-based Tools or Approaches that Improve Reading Outcomes for Children with, or At Risk for, Disabilities.

Background:

The 2024 National Assessment of Educational Progress (NAEP) ² indicates that only one in 10 students with disabilities in fourth or eighth grade reads at NAEP proficient ³ levels or above. Evidence-based reading instruction and interventions that utilize technology provide opportunities to further support the delivery of services to children with disabilities.

² The National Assessment of Educational Progress (2024). National Achievement-Level Results. The Nation's Report Card. www.nationsreportcard.gov/reading/nation/achievement/?grade=4.

³ “NAEP Proficient does not signifiy being on grade level, like State assessments, which align to state grade-level expectations, and NAEP achievement levels generally are distinct from those used on State assessments.” The Nation's Report Card/NAEP Achievement Levels (nd). www.nagb.gov/naep/NAEP-achievement-levels.html.

Priority:

The purpose of this priority is to support the implementation of evidence-based technology-based tools or approaches that improve reading outcomes for children with, or at risk for, disabilities (hereafter referred to as “children with disabilities”) in pre-kindergarten (PK), elementary, middle, or high school instructional settings;

Through this priority, the Department intends to fund five cooperative agreements to establish and operate projects that achieve, at a minimum, the following expected outcomes:

(a) Improved reading outcomes for children with disabilities in PK-12 instructional settings using an evidence-based technology-based tool or approach; ⁴

⁴ For the purpose of this priority, projects must meet at least the definition of “promising evidence,” which means that there is evidence of the effectiveness of a key project component in improving a relevant outcome, based on a relevant finding from one of the following: (a) A practice guide prepared by the What Works Clearinghouse (WWC) reporting “strong evidence” “moderate evidence”, or “promising evidence” for the corresponding practice recommendation; (b) An intervention report prepared by the WWC reporting “Tier 1 strong evidence” of effectiveness, or “Tier 2 moderate evidence” of effectiveness, or “Tier 3 promising evidence” of effectiveness, or a “positive effect,” or “potentially positive effect” on a relevant outcome, with no reporting of a “negative effect” or “potentially negative effect” on a relevant outcome; or (c) A single study assessed by the Department, as appropriate, that—(1) Is an experimental study, a quasi-experimental design study, or a well-designed and well-implemented correlational study with statistical controls for selection bias (such as a study using regression methods to account for differences between a treatment group and a comparison group); (2) Includes at least one statistically significant and positive (i.e., favorable) effect on a relevant outcome; and (3) Includes no overriding statistically significant and negative effects on relevant outcomes reported in the study or in a corresponding WWC intervention report. See 34 CFR 77.1 for definitions of “project component,” “promising evidence,” “experimental study,” “moderate evidence,” “quasi-experimental design study,” “relevant outcome,” and “strong evidence.”

(b) Improved educator ⁵ implementation of an evidence-based technology-based tool or approach to deliver evidence-based instruction and interventions to improve reading outcomes for children with disabilities;

⁵ For the purpose of this priority, “educators” include teachers, early childhood providers, related services providers, administrators, paraprofessionals, and others providing services to childen with disabilities.

(c) Improved educator and family engagement regarding the use of an evidence-based technology-based tool or approach to improve reading outcomes for children with disabilities; and

(d) Sustained use of the evidence-based technology-based tool or approach within the instructional setting.

Application Requirements:

At a minimum, to be considered for funding under this priority in the application, applicants must describe the—

(a) Evidence-based technology-based tool or approach that improves reading outcomes and is ready to use at the time of the application;

(b) Reading outcomes of children with disabilities that will be improved by implementing the technology-based tool or approach;

(c) Approach to increase educators' implementation of the technology-based tool or approach to improve the reading outcomes of children with disabilities in an instructional setting; and

(d) Accessible products and resources ⁶ that will help educators and families to effectively use and implement the technology-based tool or approach.

⁶ Applicants should note that other laws, including the Americans with Disabilities Act of 1990 (42 U.S.C. 12101 et seq.; 28 CFR part 35) and section 504 of the Rehabilitation Act of 1973, as amended (29 U.S.C. 794; 34 CFR part 104), may require that SEAs and LEAs provide captioning, video description, and other accessible educational materials to students with disabilities when these materials are necessary to provide equally integrated and equally effective access to the benefits of the educational program or activity, or as part of a “free appropriate public education” as defined in 34 CFR 104.33. Starting in either April 2026 or April 2027 (depending on the size of the school district), Title II of the Americans with Disabilities Act will require that public entities, including public schools, ensure that web content and mobile apps made available by the public entities are accessible in compliance with the Web Content Accessibility Guidelines (WCAG) 2.1, level AA. www.ada.gov/resources/2024-03-08-web-rule/#top.

In addition to these application requirements, to be considered for funding under this priority, applicants must meet the following requirements:

(a) In the narrative section of the application under “Significance” describe how the proposed project will address the need for a technology-based tool or approach to improve reading outcomes for children with disabilities. To meet this requirement applicants must—

(1) Describe the developed technology-based tool or approach and core components that improve reading outcomes that are based on at least promising evidence;

(2) Describe the educators who will implement the technology-based tool or approach and the population of children with disabilities who will benefit from the technology-based tool or approach;

(3) Describe how the technology-based tool or approach is currently being implemented and has improved reading outcomes for children with disabilities, if applicable;

(4) Describe any Federal funding, if applicable, within the last five years related to this technology-based tool or approach, how the funding has supported development and current implementation, and demonstrated improved outcomes for children with disabilities;

(5) Describe how the technology-based tool or approach will improve educators' implementation of evidence-based reading instruction to improve outcomes for children with disabilities in PK-12 instructional settings; and

(6) Present applicable national, State, regional, or local data demonstrating the need for the identified technology-based tool or approach to enhance the reading outcomes for children with disabilities.

(b) Demonstrate, in the narrative section of the application under “Quality of the project design” how the proposed project will—

(1) Develop and refine products and resources that incorporate principles of universal design for learning ⁷ to support full implementation and use of the technology tool or approach to improve reading outcomes for children with disabilities;

⁷ Multiple means of representation so that information can be delivered in more than one way (e.g., specialized software and websites, customizing display for visual or physical modalities); multiple means of expression that allow knowledge to be exhibited through options (e.g., writing, online concept mapping, or speech-to-text programs, where appropriate); and multiple means of engagement to stimulate interest in and motivation for learning (e.g., individual or group learning experiences or activities, learner choice).

(2) Recruit and engage educators and children with disabilities who are intended to benefit from the technology-based tool or approach; and

(3) Address barriers or challenges of implementation and utilize stages of implementation science with a variety of sites, such as public or private school buildings or early childhood settings, to support, sustain, and scale the evidence-based technology-based tool or approach.

To address this requirement, the applicant must include the following—

(i) Two product and resource development sites. Applicants must describe at least two proposed product and resource development sites, where the project would conduct iterative development of the products and resources intended to support the implementation of the technology-based tool or approach and produce, by the end of year one, preliminary feasibility and usability data. Applicants must include a letter in Appendix A from at least one site that indicates agreement to serve as a product and resource development site, at a minimum, in year one of the project.

(ii) Three pilot sites, one of which must be a site that is eligible for Title I funds under Part A of the Elementary and Secondary Education Act (ESEA). Pilot sites are the sites in which ongoing refinement of the developed products and resources, and the continued collection of feasibility and usability data, will occur. Applicants must describe how they would work with a minimum of three pilot sites no later than year two of the project, where the project would continue to refine the developed products and resources; collect feasibility and usability data; and demonstrate that the educational technology-based tool or approach is improving reading outcomes for children with disabilities.

(iii) Ten dissemination study sites, three of which must be sites that are eligible for Title I funds under Part A of the ESEA. Applicants must describe and complete work with a minimum of five dissemination sites by the end of year three and another five by the end of year four of the project period, to evaluate the performance of the technology-based tool or approach on educators' implementation and reading outcomes for children with disabilities. Dissemination sites would receive less implementation support from the project than development and pilot sites.

Note: A site may not serve in more than one category (i.e., development, pilot, dissemination).

(iv) A plan to systematically disseminate information about the technology-based tool or approach to varied audiences throughout the five-year project period that extends beyond conference presentations and articles to reach intended audiences, support implementation. This plan must describe—

(A) How the project will utilize the fifth year of the project to scale the use of the technology-based tool or approach by educators and children with disabilities to improve reading outcomes; and

(B) How the project will ensure that all digital products and all external communications are routinely evaluated for and, if necessary, remediated to meet or exceed government or industry-recognized standards for accessibility.

(c) Demonstrate, in the narrative section of the application under “Adequacy of resources,” how—

(1) The applicant and any key partners or sites have adequate resources and demonstrated commitment to carry out the proposed activities; and

(2) Proposed costs are reasonable in relation to the anticipated results and benefits.

(d) Demonstrate, in the narrative section of the application under “Quality of the management plan,” how—

(1) The proposed project personnel, consultants, and subcontractors have the qualifications and experience to carry out the proposed activities and achieve the project's intended outcomes and how the proposed project team will include qualified experts on topics such as technology, education theory, practice, research methods, and scale-up or commercialization to support sustainability and dissemination;

(2) The proposed management plan will ensure that the project's intended outcomes will be achieved on time and within budget. To address this requirement, the applicant must describe—

(i) Clearly defined responsibilities for key project personnel, consultants, and subcontractors, as applicable; and

(ii) Timelines and milestones for accomplishing the project tasks;

(3) Key project personnel and any consultants and subcontractors will be allocated and how these allocations are appropriate and adequate to achieve the project's intended outcomes;

(4) The proposed management plan will ensure that the products and resources provided are of high quality, and are relevant and useful to educators and children with disabilities; and

(5) The proposed project will integrate feedback from a variety of perspectives, including families, educators and those from the intended users.

(e) Include a plan in the narrative section of the application under “Quality of project evaluation or other evidence-building” that describes—

(1) A logic model (as defined in 34 CFR 77.1) or conceptual framework that depicts, at a minimum, the goals, activities, project evaluation, methods, performance measures, outputs, and intended outcomes of the proposed project;

(2) The formative evaluation of the proposed project's activities and how the formative evaluation will use clear performance objectives to ensure continuous improvement in the operation of the proposed project;

(3) A method for assessing—

(i) The formative and summative data from the development sites that informs the implementation support needs;

(ii) The readiness of pilot sites to pilot the technology-based tool or approach, including, at a minimum, their current practices, technology or instructional alignment, available resources, and ability to build capacity;

(iii) The formative and summative data collected from the pilot sites to refine and evaluate the products and resources to support full implementation;

(iv) The training and ongoing professional learning needs of educators to implement the technology-based tool or approach with fidelity;

(v) The dissemination and scale up efforts to spread the use of the technology-based tool or approach by educators to improve reading outcomes for children with disabilities;

(4) How the project will collect summative data to report on the quality, relevance, usefulness, and efficacy of the products and resources developed to support implementation of the technology-based tool or approach to improve reading outcomes for children with disabilities; and

(5) How, by the end of the project period, the project will provide—

(i) Information supported by the project evaluation on the products and resources, including accessibility features, that will enable other sites to implement and sustain implementation of the technology-based tool or approach;

(ii) Information in the project's final performance report, including implementation data, on how educators utilized the technology-based tool or approach; how the technology-based tool or approach was implemented with fidelity; and the effectiveness of the technology-based tool or approach in improving reading outcomes for children with disabilities;

(iii) Data on how the technology-based tool or approach changed educators' practices to improve reading outcomes for children with disabilities; and

(iv) A dissemination plan that includes scaling up the technology-based tool or approach and accompanying products beyond the sites directly involved in the project.

(f) Address the following application requirements. The applicant must include—

(1) In Appendix A, personnel-loading charts and timelines, as applicable, to illustrate the management plan described in the narrative;

(2) In Appendix A, the logic model by which the proposed project will develop project plans and activities and achieve its intended outcomes. The logic model must depict, at a minimum, the goals, activities, project evaluation, methods, and intended outcomes of the proposed project; and

Note: The following website provides more information on logic models: https://ies.ed.gov/use-work/resource-library/resource/tooltoolkit/program-evaluation-toolkit.

(3) In the budget, attendance at the following:

(i) A two-day project directors' conference in Washington, DC, during each year of the project period.

(ii) One annual trip, to attend Department briefings, Department-sponsored conferences, and other meetings, as requested by OSEP. Provide an assurance that the project will reallocate unused travel funds no later than the end of the third quarter if the meetings are conducted virtually.

Cohort Collaboration and Support:

OSEP project officers will provide coordination support among the projects. Each project funded under this priority must—

(a) Participate in monthly conference-call discussions to collaborate on implementation and project issues; and

(b) Provide annual information to OSEP using a template that captures descriptive data on project site selection and the processes for implementation and use of the technology-based tool or approach.

Selection Criteria: The selection criteria for this competition are from 34 CFR 75.210 and are as follows:

(a) Significance (15 points).

The Secretary considers the significance of the proposed project. In determining the significance of the proposed project, the Secretary considers the following factors:

(1) The extent to which findings from the project's implementation will contribute new knowledge to the field by increasing knowledge or understanding of educational challenges, including the underlying or related challenges, and effective strategies for addressing educational challenges and their effective implementation (up to 4 points);

(2) The potential effective replicability of the proposed project or strategies, including, as appropriate, the potential for implementation by a variety of populations or settings (up to 5 points).

(3) The extent to which the resources, tools, and implementation lessons of the proposed project will be disseminated in ways to the target population and local community that will enable them and others (including practitioners, researchers, education leaders, and partners) to implement similar strategies (up to 6 points).

(b) Quality of the project design (30 points).

The Secretary considers the quality of the design of the proposed project. In determining the quality of the design of the proposed project, the Secretary considers the following factors:

(1) The extent to which the services to be provided by the proposed project reflect up-to-date knowledge and an evidence-based project component (up to 5 points);

(2) The likely benefit to the intended recipients, as indicated by the logic model or other conceptual framework, of the services to be provided (up to 7 points);

(3) The extent to which the training or professional development services to be provided by the proposed project are of sufficient quality, intensity, and duration to build recipient and project capacity in ways that lead to improvements in practice among the recipients of those services (up to 10 points); and

(4) The extent to which the services to be provided by the proposed project involve the use of efficient strategies, including the use of technology, as appropriate, and the leveraging of non-project resources (up to 8 points).

(c) Adequacy of resources (15 points).

The Secretary considers the adequacy of resources for the proposed project. In determining the adequacy of resources for the proposed project, the Secretary considers the following factors:

(1) The adequacy of support for the project, including facilities, equipment, supplies, and other resources, from the applicant or the lead applicant organization (up to 5 points);

(2) The relevance and demonstrated commitment of each partner in the proposed project to the implementation and success of the project (up to 5 points); and

(3) The extent to which the budget is adequate to support the proposed project and the costs are reasonable in relation to the objectives, design, and potential significance of the proposed project (up to 5 points).

(d) Quality of the management plan (20 points).

The Secretary considers the quality of the management plan for the proposed project. In determining the quality of the management plan for the proposed project, the Secretary considers the following factors:

(1) The feasibility of the management plan to achieve project objectives and goals on time and within budget, including clearly defined responsibilities, timelines, and milestones for accomplishing project tasks (up to 5 points);

(2) The adequacy of mechanisms for ensuring high-quality and accessible products and services from the proposed project for the target population (up to 4 points);

(3) The extent to which the time commitments of the project director and principal investigator and other key project personnel are appropriate and adequate to meet the objectives of the proposed project (up to 3 points);

(4) The extent to which the key personnel in the project, when hired, have the qualifications required for the proposed project, including formal training or work experience in fields related to the objectives of the project, and represent or have lived experiences of the target population (up to 6 points); and

(5) The qualifications, including relevant training and experience, of project consultants or subcontractors (up to 2 points).

(e) Quality of the project evaluation or other evidence-building (20 points).

The Secretary considers the quality of the evaluation or other evidence-building of the proposed project. In determining the quality of the evaluation or other evidence-building, the Secretary considers the following factors:

(1) The extent to which the methods of evaluation or other evidence-building are thorough, feasible, relevant, and appropriate to the goals, objectives, and outcomes of the proposed project (up to 5 points);

(2) The extent to which the methods of evaluation or other evidence-based building are designed to measure the fidelity of implementation of the project (up to 5 points);

(3) The extent to which the methods of evaluation or other evidence-building will provide performance feedback and provide formative, diagnostic, or interim data that is a periodic assessment of progress toward achieving intended outcomes (up to 5 points); and

(4) The extent to which the evaluation will provide guidance about effective strategies suitable for replication or testing and potential implementation in other settings (up to 5 points).

Performance Measures:

For the purposes of Department reporting under 34 CFR 75.110, the Department has established a set of performance measures including long-term measures, that are designed to yield information on various aspects of the effectiveness and quality of the ETechM2 Program. These measures are:

• Program Performance Measure 1: The percentage of ETechM2 Program products and services judged to be of high quality by an independent review panel of experts qualified to review the substantial content of the products and services.

• Program Performance Measure 2: The percentage of ETechM2 Program products and services judged to be of high relevance to improving outcomes for infants, toddlers, children, and youth with disabilities.

• Program Performance Measure 3: The percentage of ETechM2 Program products and services judged to be useful in improving results for infants, toddlers, children, and youth with disabilities.

• Program Performance Measure 4.1: The Federal cost per unit of accessible educational materials funded by the ETechM2 Program.

• Program Performance Measure 4.2: The Federal cost per unit of accessible educational materials from the National Instructional Materials Access Center funded by the ETechM2 Program.

• Program Performance Measure 4.3: The Federal cost per unit of video description funded by the ETechM2 Program.

Program Performance Measures 1, 2, and 3 apply to projects funded under this competition, and grantees are required to submit data on Program Performance Measures 1, 2, and 3 as directed by OSEP.

Grantees will be required to report information on their project's performance in annual performance reports and additional performance data to the Department (34 CFR 75.590 and 75.591).

Waiver of Proposed Rulemaking: Under the Administrative Procedure Act (5 U.S.C. 553), the Department generally offers interested parties the opportunity to comment on proposed priorities and requirements. Section 681(d) of IDEA, however, makes the public comment requirements of the APA inapplicable to the priority in this notice.

Program Authority: 20 U.S.C. 1471, 1481, 1482.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474.

Cost Sharing or Matching: This program does not require cost sharing or matching.

Indirect Cost Rate Information: This program uses an unrestricted indirect cost rate. For more information regarding indirect costs, or to obtain a negotiated indirect cost rate, please see www.ed.gov/about/ed-offices/ofo#Indirect-Cost-Division.

Administrative Cost Limitation: This program includes administrative cost limitations under 20 U.S.C. 1482(b)(3)(B).

Subgrantees: A grantee under this competition may award subgrants—to directly carry out project activities described in its application—to the following types of entities: IHEs and private nonprofit organizations suitable to carry out the activities proposed in the application.

The grantee may award subgrants to entities it has identified in an approved application.

Other General Requirements:

1. Recipients of funding under this program must make positive efforts to employ and advance in employment qualified individuals with disabilities (see section 606 of IDEA).

2. Each applicant for, and recipient of, funding under this program must involve individuals with disabilities, or parents of individuals with disabilities ages birth through 26, in planning, implementing, and evaluating the project (see section 682(a)(1)(A) of IDEA).

Application and Submission Information:

1. Application Submission Instructions: Applicants are required to follow the Common Instructions for Applicants to Department of Education Discretionary Grant Programs available at www.federalregister.gov/d/2024-30488 (89 FR 104528, December 23, 2024).

2. Intergovernmental Review: This competition is subject to intergovernmental review under Executive Order 12372 and the regulations in 34 CFR part 79. Information about this process is in the application package. Please note that, under 34 CFR 79.8(a), we have shortened the standard 60-day intergovernmental review period in order to make awards by the end of FY 2025.

3. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

4. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

In the event there are two or more applications with the same final score, and there are insufficient funds to fully support each of these applications, the scores under selection criterion (b) Quality of the project design will be used as a tiebreaker. If the scores remain tied, then the scores under selection criterion (c) Adequacy of resources will be used to break the tie.

5. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process.

6. Risk Assessment and Specific Conditions: Before awarding grants under this competition, the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

7. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information:

1. Award Notices: If your application is successful, we notify your U.S. Representative and U.S. Senators and send you a Grant Award Notification (GAN), or we may send you an email containing a link to access an electronic version of your GAN.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project period, you must submit a final performance report, including financial information, as directed by the Secretary. If you receive a multiyear award, you must submit an annual performance report that provides the most current performance and financial expenditure information as directed by the Secretary. The Secretary may also require more frequent performance reports. For specific requirements on reporting, please go to www.ed.gov/fund/grant/apply/appforms/appforms.html.

(c) The Secretary may provide a grantee with additional funding for data collection analysis and reporting. In this case the Secretary establishes a data collection period.

5. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Diana Diaz,
Deputy Assistant Secretary and Acting Assistant Secretary for Special Education and Rehabilitative Services.

[FR Doc. 2025-11614 Filed 6-24-25; 8:45 am]

BILLING CODE 4000-01-P